DEPARTMENT OF COMMERCE

Foreign-Trade Zones Board

[B-20-2016]

Foreign-Trade Zone 214—Lenoir County, North Carolina; Application for Reorganization/Expansion Under Alternative Site Framework

An application has been submitted to the Foreign-Trade Zones (FTZ) Board by the North Carolina Department of Transportation, grantee of FTZ 214, requesting authority to reorganize and expand the zone under the alternative site framework (ASF) adopted by the FTZ Board (15 CFR Sec. 400.2(c)). The ASF is an option for grantees for the establishment or reorganization of zones and can permit significantly greater flexibility in the designation of new subzones or “usage-driven” FTZ sites for operators/users located within a grantee's “service area” in the context of the FTZ Board's standard 2,000-acre activation limit for a zone. The application was submitted pursuant to the Foreign-Trade Zones Act, as amended (19 U.S.C. 81a-81u), and the regulations of the Board (15 CFR part 400). It was formally docketed on April 13, 2016.

FTZ 214 was approved by the FTZ Board on May 7, 1996 (Board Order 815, 61 FR 27048, May 30, 1996) and expanded on August 14, 2003 (Board Order 1281, 68 FR 51965, August 29, 2003) and November 2, 2007 (Board Order 1537, 72 FR 65700, November 23, 2007). The grant of authority was reissued to the North Carolina Department of Transportation, and FTZs 66, 67 and 214 were merged into one zone and designated as FTZ 214 on February 28, 2014 (Board Order 1932, 79 FR 13987, March 12, 2014).

The current zone includes the following sites: Site 1 (1,131 acres)—NC Global Transpark Authority, 3800 Hwy. 58 N, Kinston; Site 2 (35 acres)—Kanban Logistics, Inc., 1114 Kingsboro Road, Rocky Mount; Site 3 (56 acres)—Crown LSP Group, Inc., 400 English Road, Rocky Mount; Site 4 (28 acres)—Crown LSP Group, Inc., 1201 Thorpe Road, Rocky Mount; Site 5 (390 acres)—Wilmington Port Terminal Complex, 2202 Burnett Blvd., Wilmington; Site 6 (4 acres)—Morehead City Terminal, 113 Arendell Street, Morehead City; and, Site 7 (40 acres)—Morehead City Terminal, U.S. Highway 70 and State Route 24, Morehead City.

The grantee's proposed service area under the ASF would be: The Counties of Pender, New Hanover, Brunswick, Carteret, Duplin, Cumberland, and Columbus within and adjacent to the Wilmington Customs and Border Protection port of entry; the Counties of Beaufort, Pitt, Hyde, Onslow, Homes, Craven, Pamlico, and Lenoir within and adjacent to the Morehead City Customs and Border Protection port of entry; and, the Counties of Robeson, Bladen, Wilson, Edgecombe, Nash, Wayne and Greene within and adjacent to the Raleigh-Durham Customs and Border Protection port of entry, as described in the application. If approved, the grantee would be able to serve sites throughout the service area based on companies' needs for FTZ designation.

The applicant is requesting authority to reorganize and expand its existing zone as follows: Modify Site 6 to include an additional 124 acres (new total acreage = 128 acres); existing Sites 1, 5, 6 (as modified) and 7 would become ”magnet” sites; and, existing Sites 2, 3, and 4 would become “usage-driven” sites. The ASF allows for the possible exemption of one magnet site from the “sunset” time limits that generally apply to sites under the ASF, and the applicant proposes that Sites 5 and 6 be so exempted or approved with 10-year sunset time limits.

The applicant is also requesting approval of three additional magnet sites: Proposed Site 8 (154 acres)—Radio Island, 296 Radio Island Road, Beaufort; Proposed Site 9 (1,530 acres)—Wilmington International Airport, 1740 Airport Blvd., Wilmington; and, Proposed Site 10 (491 acres)—Craven County Industrial Park, 406 Craven Street, New Bern. The application would have no impact on FTZ 214's previously authorized subzones.

In accordance with the FTZ Board's regulations, Kathleen Boyce of the FTZ Staff is designated examiner to evaluate and analyze the facts and information presented in the application and case record and to report findings and recommendations to the FTZ Board.

Public comment is invited from interested parties. Submissions shall be addressed to the FTZ Board's Executive Secretary at the address below. The closing period for their receipt is June 20, 2016. Rebuttal comments in response to material submitted during the foregoing period may be submitted during the subsequent 15-day period to July 5, 2016.

A copy of the application will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz. For further information, contact Kathleen.Boyce@trade.gov or (202) 482-1346.

Dated: April 14, 2016.
Andrew McGilvray,
Executive Secretary.

[FR Doc. 2016-09285 Filed 4-20-16; 8:45 am]

BILLING CODE 3510-DS-P